FEDERAL MARITIME COMMISSION

Ocean Transportation Intermediary License Revocations

The Commission gives notice that the following Ocean Transportation Intermediary license has been revoked pursuant to section 40901 of the Shipping Act of 1984 (46 U.S.C. 40101) effective on the date shown.

License No.: 016914N.

Name: Air Sea Cargo Network, Inc.

Address: 6345 Coliseum Way, Oakland, CA 94621.

Date Revoked: June 6, 2012.

Reason: Voluntary surrender of license.

Vern W. Hill,
Director, Bureau of Certification and Licensing.

[FR Doc. 2012-18179 Filed 7-24-12; 8:45 am]

BILLING CODE 6730-01-P